DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 30076, dated May 26, 2015) is amended to reflect the reorganization of the National Institute for Occupational Safety and Health, Centers for Disease Control and Prevention.

Section C-B, Organization and Functions, is hereby amended as follows:

Delete in its entirety the title and the mission and function statements for the National Personal Protective Technology Laboratory (CCL) and insert the following:

The National Personal Protective Technology (NPPTL) (CCL) prevents work-related injury, illness and death by advancing the state of knowledge and application of personal protective technologies (PPT) including instrumentation, respiratory protective devices (RPD), and a diversity of personal protective equipment (PPE) used for the protection of American workers. To accomplish this mission, NPPTL leads and coordinates the National Institute for Occupational Safety and Health's (NIOSH) programs, projects, and policies related to PPT across the Institute. NPPTL: (1) Identifies the need for research, conducts and coordinates research to support the development of new technologies, performance, quality and reliability standards, Federal regulations, safety and health criteria, and Institute policy; (2) conducts a variety of laboratory and field investigations relating to the development and evaluation of innovative technologies; (3) directs, implements, and provides national guidance related to conformity assessment programs and functions (e.g. inspection, testing, certification, quality assurance, surveillance); (4) provides national leadership serving on national and international PPT consensus standard setting committees; (5) develops and promulgates standards and regulations; (6) produces and disseminates scientific reports and national guidance documents including research, laboratory and field studies, safety and health investigations, scientific criteria, and national guidance; (7) designs and implements information technology functions including national or program databases, trusted sources for public information and social marketing; and (8) coordinates program support functions including budget, facilities, growth initiatives, and communications, and scientific support functions such as Committee on Personal Protective Equipment and Institute of Medicine evaluations, special projects, non-respiratory PPE conformity assessment, and federal and consensus standards across NIOSH.

Research Branch (CCLE). (1) Conducts hypothesis testing-based PPT research with an emphasis on respiratory protection, protective clothing, and ensemble research; (2) encourages and conducts research related to innovative technologies to improve the use and usability of existing and new PPT products; (3) conducts laboratory and field research projects to measure performance, quality, reliability, and efficacy of the materials, components, and sub-systems used in PPT as well as complete equipment systems, especially for new or emerging hazards, and recommends criteria to improve the selection, care, maintenance, and use of PPT; (4) investigates emerging hazards and personal exposures to identify worker PPT needs and technology gaps; (5) conducts research to identify and recommend effective integration strategies and evidence-based test methods for PPT for use in PPT standards; (6) recommends performance, quality, reliability, and efficacy criteria; (7) studies and improves human/technology interfaces to better understand and mitigate barriers to effective PPT selection, care, maintenance, and use; (8) conducts laboratory and field-based research into the biomechanical, physiological, and psychological stressors and worker responses to PPT; (9) conducts research, developing interventions, and identifies innovative methods (e.g., new software tools, information technology, social marketing, training methods, practices, equipment, etc.) of increasing end-user compliance with proper selection, care, maintenance, and use of PPT; (10) provides systematic collection, analysis, and interpretation of PPT use practices, including investigation of barriers to effective PPT use; (11) produces and disseminates technical information, research findings, training materials, and recommendations for PPT to improve protection of workers; (12) evaluates and disseminates PPT performance trends published through the post market surveillance activities; and (13) identifies and implements an effective communication and outreach program for stakeholders within the NIOSH sectors to inform end users of proper selection, care, maintenance, and use of PPT.

Conformity Verification and Standards Development Branch (CCLG). (1) Administers the Department of Health and Human Services Title 42 Code of Federal Regulations (CFR), Part 84-Respiratory Protective Devices conformity assessment functions (i.e. inspection, testing, certification, documentation control, quality assurance, and surveillance) including: (a) Processing respirator approval applications by verifying conformance with Federal regulations and national consensus standards such as performance, quality, reliability, and documentation requirements to determine the effectiveness of respirators used during entry into or escape from hazardous atmospheres, (b) issuing or revoking NIOSH certificates of approval, (c) evaluating and maintaining official records on NIOSH-certified respirators including the establishment of NPPTL and national databases, (d) recommending NIOSH policy relating to RPD conformity verification criteria for traditional and innovative respirator technologies and applications, and, (e) investigating and processing Freedom-of-Information-Act requests; (2) establishes and administers an internal audit program to evaluate the conformity assessment functions of NPPTL; (3) maintains official files of policies, standards, standard operating and test procedures used as the basis for granting a NIOSH certificate of approval; (4) provides national recommendations for effective conformity assessment programs associated with non-respiratory PPT; (5) assesses research findings and translates them into effective conformity assessment recommendations for NIOSH policy, standards, regulations, and surveillance practices, for new protective technologies or special applications of existing technologies; (6) leads NIOSH participation in the development and promulgation of national and international consensus standards, conformity assessment program criteria and guidance, establishment of Federal regulations where necessary, and assesses of economic impact of Federal regulations; (7) prepares criteria for proper selection, recommends national guidance for effective use (e.g. cautions, limitations, and restrictions of use) and maintenance, and provides technical support; (8) plans and conducts public meetings to solicit or provide information concerning technology and conformity assessment practices; and (9) prepares and disseminates national reports related to conformity assessment of PPT.

Evaluation and Testing Branch (CCLH). (1) Conducts evaluations and tests in accordance with prescribed standard test procedures of RPD in support of NIOSH conformity assessment functions that lead to a NIOSH certificate of approval or its revocation; (2) conducts quality management system in-plant manufacturing-site evaluations including post market surveillance, and documents finding and recommendations in proper reports; (3) conducts evaluation and testing of PPT for various purposes, and prepares reports for dissemination to the public; (4) provides testing support to the NPPTL research and standards development initiatives; (5) develops evaluation methodologies, and unique test procedures to address new protective technologies or special applications of existing technologies; (6) conducts post market evaluations of NIOSH-certified RPD including the long-term field evaluation program, and prepares technical information and reports to improve standards for certification, selection, care, and use; (7) administers and conducts surveillance of field deployed PPT to evaluate conformance to applicable regulation, consensus standards, and NIOSH policy; (8) conducts investigations of PPT associated with complaints of nonconformance and/or concerns related to adverse health and safety including evaluations and analysis associated with NIOSH-certified respirators (e.g. certified product investigation process), and evaluating respirators and protective clothing submitted in conjunction with the NIOSH Fire Fighter Fatality Investigation and Prevention Program investigations conducted by the Division of Safety Research ; and (9) maintains and improves laboratory capabilities to perform evaluation and testing of PPT including innovative technologies, implements a laboratory quality program (e.g., ISO 17025) to ensure quality and continuous improvement of PPT evaluations and tests, administers and maintains a chain of custody program to secure technologies or products obtained for evaluation and testing, and conducts an internal audit function to assure evaluation and testing are carried out in accordance policy and standard procedures.

James Seligman,
Acting Chief Operating Officer, Centers for Disease Control and Prevention.

[FR Doc. 2015-14686 Filed 6-15-15; 8:45 am]

BILLING CODE 4163-18-P]